DEPARTMENT OF THE INTERIOR

National Park Service

Notice of Inventory Completion: U.S. Department of Agriculture, Forest Service, Siuslaw National Forest, Waldport, OR

AGENCY: National Park Service, Interior.

ACTION: Notice.

Notice is here given in accordance with the Native American Graves Protection and Repatriation Act (NAGPRA), 25 U.S.C. 3003, of the completion of an inventory of human remains in the possession of the U.S. Department of Agriculture, Forest Service, Siuslaw National Forest, Waldport, OR. The human remains were removed from the Cape Perpetua Visitor Center, Lincoln County, OR.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Siuslaw National Forest professional staff in consultation with representatives of the Confederated Tribes of the Coos, Lower Umpqua and Siuslaw Indians of Oregon; Confederated Tribes of the Grand Ronde Community of Oregon; Confederated Tribes of Siletz Indians of Oregon; and the Coquille Tribe of Oregon.

At an unknown date prior to 1988, human remains representing a minimum of one individual were removed near Cape Perpetua, near Yachats, Lincoln County, OR, and given to the Cape Perpetua Visitor Center. No known individual was identified. No associated funerary objects are present.

The Visitor Center held the human remains in secure storage until transferring to the Forest Archaeologist. No information accompanied the human remains regarding the specific location and conditions of discovery other than the remains were retrieved from a crevice in the rocky shoreline between Cape Perpetua and Yachats.

Consultation evidence and the ethnographic record show that this area was part of the ancestral territory of the Alsea Indians. At Contact, the territory of the Alsea extended along the Oregon coast and rivers from approximately 8 miles south of Yachats to approximately 10 miles north of Waldport. In 1855, this land base and the Alsea people were included within the Coast Indian Reservation. This reservation was later referred to as the Siletz Indian Reservation. For approximately 10 years during the reservation era, other tribes, including the Coos, Lower Umpqua, Coquille, and some Siuslaw people whose traditional territories lay to the south of the Alsea, were forcibly held at the Alsea Sub-agency of the Coast Indian Reservation, which was located at present-day Yachats. Of these tribal peoples, only the Alsea are known to have primarily practiced above ground interment at locations similar to that identified for this individual. Descendants of the Alsea are members of the Confederated Tribes of Siletz Indians of Oregon.

Officials of the Siuslaw National Forest have determined that, pursuant to 25 U.S.C. 3001(9), the human remains described above represent the physical remains of one individual of Native American ancestry. Officials of the Siuslaw National Forest also have determined that, pursuant to 25 U.S.C. 3001(2), there is a relationship of shared group identity that can be reasonably traced between the Native American human remains and the Confederated Tribes of Siletz Indians of Oregon.

Representatives of any other Indian tribe that believes itself to be culturally affiliated with the human remains should contact Phyllis Steeves, Heritage Program Manager, Siuslaw National Forest, 1130 Forestry Lane/PO Box 400, Waldport, OR 97394, telephone (541) 563-8425, before September 2, 2010. Repatriation of the human remains to the Confederated Tribes of Siletz Indians of Oregon may proceed after that date if no additional claimants come forward.

The Siuslaw National Forest is responsible for notifying the Confederated Tribes of the Coos, Lower Umpqua and Siuslaw Indians of Oregon; Confederated Tribes of the Grand Ronde Community of Oregon; Confederated Tribes of Siletz Indians of Oregon; and the Coquille Tribe of Oregon, that this notice has been published.

Dated: July 26, 2010
Sherry Hutt,
Manager, National NAGPRA Program.

[FR Doc. 2010-19002 Filed 8-2-10; 8:45 am]

BILLING CODE 4312-50-S